DEPARTMENT OF HOUSING AND URBAN DEVELOPMENT

[Docket No. FR 5030-C-13A]

Notice of HUD's Fiscal Year (FY) 2006 Notice of Funding Availability, Policy Requirements and General Section to SuperNOFA for HUD's Discretionary Grant Programs; Lead Hazard Reduction Demonstration Program NOFA; Competition Reopening Announcement

AGENCY: Department of Housing and Urban Development, Office of Healthy Homes and Lead Hazard Control, HUD.

ACTION: Super Notice of Funding Availability (SuperNOFA) for HUD Discretionary Grant Programs; reopening of competition announcement for Lead Hazard Reduction Demonstration Program NOFA (CFDA number 14.905).

SUMMARY: On January 20, 2006, HUD published its Fiscal Year (FY) 2006 Notice of Funding Availability (NOFA) Policy Requirements and General Section to the SuperNOFA for HUD's Discretionary Grant Programs. On March 8, 2006, HUD published its FY 2006 SuperNOFA for HUD's Discretionary Grant Programs, which included a Program Section addressing three Lead Hazard Programs. That NOFA closed on June 7, 2006; awards are being announced concurrently with today's Notice. Today's Notice announces the reopening of the Lead Hazard Reduction Demonstration Grant Program NOFA competition (CFDA number 14.905) only. Applicants announced today as award recipients under the 2006 Lead Hazard Reduction Demonstration Grant Program are ineligible for the reopened competition. Further, as previously stated in the initial March 8, 2006, Lead Hazard Reduction Demonstration NOFA, applicants awarded grants under the FY 2005 Lead Hazard Reduction Demonstration Grant Program, Operation Lead Elimination Action Program, or Lead-Based Paint Hazard Control Program are still ineligible under this reopening.

Additional Items of Note to Applicants

• This document revises the methodology for determining the pre-1940 housing eligibility criterion to the Lead Hazard Reduction Demonstration Grant Program NOFA.

• Only applications submitted for the Lead Hazard Reduction Demonstration Grant Program will be reviewed.

In order to provide equitable review of applications from both unsuccessful applicant jurisdictions under the original FY 2006 Lead Hazard Reduction Demonstration Grant Program and Lead-Based Paint Hazard Control Grant Program NOFAs, as well as those jurisdictions who did not apply previously, HUD will provide a debriefing for the original NOFA only after the application deadline date for this NOFA shown in the DATES section, below. The procedures for requesting a debriefing are outlined in the General Section. HUD is providing comments on important issues regarding this NOFA, such as common problems identified during review of the original FY 2006 Lead Hazard Reduction Demonstration NOFA applications, in order to provide information equitably to all applicants for this NOFA. HUD's comments are in Appendix B of this NOFA.

• Applicants under this Notice should carefully review the requirements, including Appendices A and B, to ensure that their submission is complete and addresses all elements of the competition.

DATES: The new application deadline date for the Lead Hazard Reduction Demonstration Grant Program NOFA is Tuesday, October 31, 2006.

FOR FURTHER INFORMATION CONTACT: Jonnette Hawkins, Director, Program Management and Assurance Division, Office of Healthy Homes and Lead Hazard Control, 451 Seventh Street, SW., Washington, DC 20410-3000, telephone (202) 755-1785, ext. 7593 (this is not a toll-free number). Persons with hearing or speech impairments may access this number via TTY by calling the Federal Information Relay Service at (800) 877-8339.

SUPPLEMENTARY INFORMATION: On January 20, 2006, HUD published its Fiscal Year (FY) 2006 Notice of Funding Availability (NOFA) Policy Requirements and General Section (General Section) to the SuperNOFA for HUD's Discretionary Programs (71 FR 3382). On March 8, 2006, HUD published its FY 2006 SuperNOFA for HUD's Discretionary Grant Programs (71 FR 11812); the Lead Hazard Reduction Demonstration Grant Program NOFA included in the SuperNOFA closed on June 7, 2006. On April 28, 2006, HUD published a technical correction to the General Section, which clarified that HUD would only review file attachments that were in certain formats (71 FR 25208). The technical correction Notice also made corrections to the Lead Hazard Reduction Demonstration Grant Program section.

HUD did not receive a sufficient number of eligible applications that met the funding criteria for the Lead Hazard Reduction Demonstration Grant Program. Therefore, HUD is providing jurisdictions with the most need (as identified by the documented number of pre-1940 occupied rental units and by children under six with elevated blood lead levels), the opportunity to apply for funding in order to address lead hazards in their communities. This Notice reopens the Lead Hazard Reduction Demonstration Grant Program NOFA competition. The reopened competition makes available approximately $39,079,831 in FY 2006 funds for approximately 10 to approximately 15 new awards.

On August 8, 2006, HUD published additional information regarding changes made to the Central Contractor Registration (CCR) that will impact applicants that are starting the registration process or updating their registration (71 FR 45063). The notice stated that as of August 1, 2006, CCR would obtain certain data fields from Dun and Bradstreet (D&B) to pre-populate the CCR registration. CCR also recently announced that it would check these records against Internal Revenue Service records to ensure the registration is accurate and matches what was provided to the IRS. If there is a discrepancy in the data between what is contained in the D&B registration, and what you have provided to the IRS, your registration cannot be completed until the discrepancy is resolved. Applicants should review their D&B registration for accuracy and allow sufficient time to make any required changes. This process is part of a government-wide eAuthentication process. For further information regarding your D&B registration, you can contact the D&B Government Helpdesk at: govt@dnb.com. For information regarding the CCR policy change, see the “Frequently Asked Questions” at: http://www.ccr.gov/newsdetail.asp?id=55&type=N or the CCR Assistance Center at: http://www.dlis.dla.mil/cust.asp. Applicants with current registrations that are not expiring during the application period are not affected.

Applications must be received and validated by Grants.gov by 11:59:59 p.m. on Tuesday, October 31, 2006. Applicants that applied under the initial NOFA competition but did not receive awards may submit a new application under this competition if otherwise eligible.

The Lead Hazard Reduction Demonstration Grant Program NOFA has a threshold requirement for the number of pre-1940 occupied rental housing units in the applicant's jurisdiction(s). Appendix A lists the local governments, States and Tribes that are eligible to apply (part A of Appendix A), as well as the other jurisdictions within the same metropolitan area that may participate with them as sub-applicants or consortium members (part B of Appendix A). A State with an EPA-authorized lead-based paint training and certification program may apply on behalf of one or more of the eligible jurisdictions. A Tribe with an EPA-authorized lead-based paint training and certification program meeting the unit requirement may also apply on its own behalf. Appendix B lists HUD's comments on selected issues related to this NOFA. The identification of eligible jurisdictions is based upon 2000 Census data available at http://www.census.govPress-Rlease/www/2002/sumfile3.html. HUD used Census data to identify metropolitan areas with 3,500 or more housing units of occupied rental housing built in 1939 or earlier. Form HUD 96013, “Need/Extent of the Problem,” includes instructions on how to obtain housing information for individual areas. Form HUD 96013 is included in the application download at Grants.gov.

Applicability of SuperNOFA General Section and the Lead Hazard Reduction Demonstration Grant Program NOFA Requirements to Reopened Competition

Please note that all the requirements contained in the General Section and Lead Hazard Reduction Demonstration Grant Program Section previously published remain the same, with the exception of the revised methodology for determining pre-1940 housing eligibility noted below, and the additional ineligibility requirement of 2006 Lead Hazard Reduction Demonstration grantees as mentioned above in this Notice.

Modification to Threshold Requirement for Determining the Pre-1940 Housing Eligibility Criterion

1. Housing Eligibility Criterion

HUD has modified its threshold eligibility criterion for the number of pre-1940 occupied rental housing units under this re-opened NOFA for the Lead Hazard Reduction Demonstration Grant Program. HUD is replacing section III.C.3.b, in the first column on page 11819 of the original Lead Hazard Reduction Demonstration Grant Program NOFA, with the following: “b. To be eligible to apply for the Lead Hazard Reduction Demonstration Program, the applicant must be a city, county, or other unit of local government. The applicant must have at least 3,500 pre-1940 occupied rental housing units, as listed at the 2000 Census Web site identified in Form HUD 96013, “Need/Extent of the Problem.” In addition, a State may apply on behalf of one or more of the eligible local jurisdictions if it has an EPA-authorized lead-based paint training and certification program. Under a State application, at least one local government in each different metropolitan area covered by the application must meet the 3,500-unit threshold. In addition, a consortium of local governments within a single metropolitan area may apply. The local government identified as the primary applicant must meet the 3,500-unit threshold.”

2. Applicant Eligibility

Only applicants that did not receive an award from HUD under the FY 2005 Lead Hazard Reduction Demonstration Grant Program, Operation Lead Elimination Action Program, Lead-Based Paint Hazard Control Program, or the FY 2006 Lead Hazard Reduction Demonstration Grant Program are eligible to apply under this Notice. HUD provides a listing of applicants awarded funds at HUD's Web site at http://www.hud.gov/grants/index.cfm, under the header “Funding Announcements.”

3. Single Application

HUD will review only one application for each jurisdiction. If HUD receives more than one application from a jurisdiction, HUD will contact the chief executive officer for the jurisdiction (e.g., the mayor, county executive, etc.) to determine which application is to be considered. If the executive does not select one applicant to be considered under this NOFA, HUD will not review any of the applications.

A jurisdiction where lead hazard control work will be done can appear in only one application. If the jurisdiction appears in more than one application, none of the applications in which the jurisdiction appears will be reviewed.

Submission Instructions

Applicants must follow application submission procedures published in HUD's FY 2006 General Section to the SuperNOFA for HUD's Discretionary Programs. HUD encourages eligible applicants that previously applied in FY 2006 under the Lead Hazard Reduction Demonstration Grant Program but were not awarded a grant to submit new applications. To assist applicants in revising applications, Appendix B provides “HUD's Comments on Selected Issues” regarding the Lead Hazard Reduction Demonstration Grant Program, as well as the most frequent deficiencies identified in first round applications in order to ensure that under this funding round, all applicants submit the best quality application.

Applications submitted for programs other than the Lead Hazard Reduction Demonstration Grant Program (CFDA number 14.905) will not be reviewed and cannot receive an award.

Applicants interested in applying for funding under this competition must download an application from Grants.gov and submit a new application in its entirety. HUD will not accept a partial or amended application submission. If you submit your old application, Grants.gov will reject it. Applicants need to read the submission requirements carefully.

Waiver of Electronic Submission Requirement

You must submit your application electronically, unless you obtain a waiver as noted below. You may request a waiver from the electronic submission requirement. HUD's waiver regulations require that a request for a waiver be based upon cause. Therefore, if you request a waiver to the electronic submission requirement your waiver request must be in writing. It must state the basis for the request and explain why electronic submission is not possible. The basis for waivers for cause may include, but are not limited to: (a) Lack of available Internet access in the geographic location in which the applicant's business office is located, or (b) physical disability of the applicant that prevents the applicant from accessing or responding to the application electronically.

In order to ensure your waiver request is received, you must submit your waiver request by e-mail, fax, or letter (return receipt requested) at least 15 days prior to the deadline date to allow sufficient time for HUD to review the request and respond. Applicants should send e-mails with a return receipt and retain the receipt for their records. Applicants should retain the fax confirmation receipt, when submitting a fax request for a waiver. The waiver request should include the applicant's e-mail, name, and mailing address of the organization where responses can be directed. Waiver requests must be submitted to Jonnette G. Hawkins, Director Program Management and Assurance Division.

Waiver requests may be submitted by e-mail to Jonnette_G._Hawkins@hud.gov, by fax to (202) 755-1000, or by letter to: U.S. Department of Housing and Urban Development, 451 Seventh Street, SW., Room 8236, Washington, DC 20410-3000, Attention: Jonnette G. Hawkins, Director Program Management and Assurance Division. If HUD approves the waiver request, the approval notification will include instructions on how many copies of the application to submit and where they should be submitted. All paper applications must be received by HUD at the required location by the deadline date and time contained in this Notice.

Dated: September 11, 2006.
Jon L. Gant,
Director, Office of Healthy Homes and Lead Hazard Control.

Appendix A: Metropolitan Areas Having at Least One Place or County With 3,500 or More Occupied Rental Housing Units Built Before 1940, and Eligible States and Tribes

(Based on the 2000 Census)

This Appendix lists States and jurisdictions that are eligible to apply under this Lead Hazard Reduction Demonstration Grant Program Notice of Funding Availability (NOFA). Part A lists eligible applicants, which must be a unit of local general government (city or county) or a State or Native American Tribe that is authorized by EPA to administer a lead-based paint training and certification program. To be an eligible city or county, a jurisdiction must have 3,500 or more occupied pre-1940 rental housing units according to the 2000 Census. A State with an EPA authorized lead-based paint training and certification program may apply on behalf of one or more of its eligible local jurisdictions. An eligible Native American Tribe may apply on its own behalf.

Part B of this Appendix lists metropolitan areas with 3,500 or more occupied pre-1940 rental housing units and their component jurisdictions. Jurisdictions listed in Part B have fewer than 3,500 occupied pre-1940 rental housing units. These jurisdictions in the same metropolitan area as an eligible applicant listed in Part A may participate in a Lead Hazard Control Demonstration program as a sub-grantee or consortium partner.

In addition, EPA-authorized States and Tribes that apply on behalf of one or more eligible jurisdictions listed in Part A may include jurisdictions that are part of a multi-state metropolitan area in which the eligible city is located in a different State.

Also, as described in the NOFA, jurisdictions that previously received awards under the FY 2005 Lead Hazard Reduction Demonstration Grant Program, Operation Lead Elimination Action Program, or Lead-Based Paint Hazard Control Grant Program, or the FY 2006 Lead Hazard Reduction Demonstration Grant Program, even if included in this Appendix, are ineligible to apply under this reopened competition.

A. Eligible Applicants with 3,500 or more occupied pre-1940 rental housing units, and eligible States and Tribes.

Alabama

State of Alabama and the following jurisdiction: Birmingham (city).

Arizona

The following jurisdiction: Tucson (city).

California

State of California and the following jurisdictions: Alameda (city); Berkeley (city); Contra Costa County; Fresno (city); Glendale (city); Humboldt County; Kern County; Long Beach (city); Los Angeles County; Marin County; Monterey County; Oakland (city); Orange County; Pasadena (city); Sacramento (city); San Bernardino County; San Diego County; San Francisco (city); San Joaquin County; San Jose (city); San Mateo County; Santa Barbara County; Santa Clara County; Santa Cruz County; Santa Monica (city); Sonoma County; Stanislaus County; Ventura County.

Colorado

State of Colorado and the following jurisdiction: Colorado Springs (city).

Connecticut

The following jurisdictions: Bridgeport (city); Fairfield County; Hartford County; Litchfield County; Middlesex County; New Haven County; New London County; Windham County.

Delaware

State of Delaware and the following jurisdiction: Wilmington (city).

District of Columbia

Florida

The following jurisdictions: Jacksonville (city); Miami Beach (city); Miami (city); Miami-Dade County; Palm Beach County; St. Petersburg (city); Tampa (city).

Georgia

State of Georgia and the following jurisdictions: Atlanta (city); Savannah (city).

Hawaii

State of Hawaii and the following jurisdiction: Honolulu CDP.

Illinois

State of Illinois and the following jurisdictions: Cicero town; Cook County; Evanston (city); Kane County; La Salle County; Lake County; Madison County; Oak Park village; Peoria County; Rock Island County; Rockford (city); Sangamon County; St. Clair County; Will County.

Indiana

State of Indiana and the following jurisdictions: Evansville (city); Fort Wayne (city); Indianapolis (city); Lake County; St. Joseph County; Tippecanoe County.

Iowa

State of Iowa and the following jurisdictions: Davenport (city); Des Moines (city); Dubuque County; Linn County; Woodbury County.

Kansas

State of Kansas and the following jurisdiction: Wichita (city).

Kentucky

State of Kentucky and the following jurisdictions: Covington (city); Lexington-Fayette.

Louisiana

State of Louisiana and the following jurisdiction: New Orleans (city).

Maine

The following jurisdictions: Cumberland County; Kennebec County; Lewiston (city); Penobscot County; Portland (city); York County.

Maryland

State of Maryland and the following jurisdictions: Allegany County; Baltimore County; Frederick County; Montgomery County; Prince George's County; Washington County.

Massachusetts

The following jurisdictions: Berkshire County; Bristol County; Brockton (city); Brookline CDP; Cambridge (city); Essex County; Everett (city); Fall River (city); Fitchburg (city); Franklin County; Hampden County; Hampshire County; Haverhill (city); Lawrence (city); Lynn (city); Malden (city); Medford (city); Middlesex County; New Bedford (city); Newton (city); Norfolk County; Pittsfield (city); Plymouth County; Quincy (city); Salem (city); Springfield (city); Suffolk County; Taunton (city); Waltham (city); Worcester (city); Worcester County.

Michigan

State of Michigan and the following jurisdictions: Ann Arbor (city); Calhoun County; Detroit (city); Flint (city); Jackson County; Kalamazoo County; Lansing (city); Macomb County; Oakland County; Saginaw County; Wayne County.

Minnesota

State of Minnesota and the following jurisdiction: Duluth (city); Minneapolis (city); St. Paul (city).

Missouri

State of Missouri and the following jurisdictions: Springfield (city); St. Louis County.

Nebraska

State of Nebraska and the following jurisdiction: Lincoln (city).

New Hampshire

State of New Hampshire and the following jurisdictions: Grafton County; Manchester (city); Merrimack County; Nashua (city); Rockingham County; Strafford County.

New Jersey

State of New Jersey and the following jurisdictions: Atlantic County; Bayonne (city); Bergen County; Burlington County; Camden County; Clifton (city); East Orange (city); Elizabeth (city); Essex County; Hoboken (city); Hudson County; Jersey City (city); Mercer County; Middlesex County; Monmouth County; Morris County; Newark (city); Passaic (city); Paterson (city); Somerset County; Trenton (city); Union City (city); Union County; West New York town.

New York

The following jurisdictions: Albany (city); Albany County; Binghamton (city); Broome County; Buffalo (city); Cattaraugus County; Cayuga County; Chemung County; Dutchess County; Jamestown (city); Jefferson County; Monroe County; Montgomery County; Mount Vernon (city); Nassau County; New Rochelle (city); Niagara County; Oneida County; Onondaga County; Ontario County; Orange County; Oswego County; Rochester (city); Rockland County; Saratoga County; Schenectady (city); St. Lawrence County; Steuben County; Suffolk County; Syracuse (city); Tompkins County; Troy (city); Ulster County; Utica (city); Yonkers (city).

North Carolina

State of North Carolina and the following jurisdictions: Buncombe County; Guilford County; Mecklenburg County; Wake County.

Ohio

State of Ohio and the following jurisdictions: Butler County; Canton (city); Cincinnati (city); Columbus (city); Cuyahoga County; Dayton (city); Hamilton County; Lakewood (city); Lorain County; Mahoning County; Montgomery County; Springfield (city); Stark County; Toledo (city); Trumbull County.

Oklahoma

State of Oklahoma and the following jurisdictions: Cherokee OTSA. Oklahoma City (city); Tulsa (city).

Oregon

State of Oregon and the following jurisdictions: Lane County; Portland (city).

Pennsylvania

State of Pennsylvania and the following jurisdictions: Allegheny County; Allentown (city); Beaver County; Berks County; Bethlehem (city); Blair County; Bucks County; Butler County; Cambria County; Chester County; Cumberland County; Dauphin County; Delaware County; Erie (city); Fayette County; Franklin County; Harrisburg (city); Lackawanna County; Lancaster (city); Lancaster County; Lebanon County; Luzerne County; Lycoming County; Mercer County; Montgomery County; Northampton County; Northumberland County; Pittsburgh (city); Reading (city); Schuylkill County; Scranton (city); Washington County; Westmoreland County; Wilkes-Barre (city); York (city); York County.

Puerto Rico

Commonwealth of Puerto Rico and the following jurisdiction: San Juan zona urbana.

Rhode Island

State of Rhode Island and the following jurisdictions: Kent County; Newport County; Pawtucket (city); Providence (city); Providence County; Woonsocket (city).

South Carolina

The following jurisdiction: Charleston (city).

Tennessee

State of Tennessee and the following jurisdictions: Hamilton County; Knoxville (city); Nashville-Davidson.

Texas

State of Texas and the following jurisdictions: Austin (city); Dallas (city); El Paso (city); Harris County; San Antonio (city).

Utah

State of Utah and the following jurisdiction: Salt Lake City (city).

Vermont

The following jurisdictions: Burlington (city) and the following jurisdictions: Rutland County; Washington County.

Virginia

The following jurisdictions: Norfolk (city); Richmond (city).

Washington

The following jurisdictions: King County; Seattle (city); Snohomish County; Spokane (city); Tacoma (city).

West Virginia

State of West Virginia and the following jurisdiction: Kanawha County.

Wisconsin

State of Wisconsin and the following jurisdictions: Brown County; Kenosha County; Madison (city); Milwaukee (city); Milwaukee County; Racine (city); Rock County; Sheboygan County; Winnebago County.

B. The following metropolitan areas (in alphabetical order) have at least one eligible place or county listed in Part A, above, with 3500 or more pre-1940 occupied rental housing units. Additional jurisdictions in the metropolitan area that may participate as sub-applicants or consortium members are also listed here.

Akron, OH Metropolitan Statistical Area

Principal City: Akron.

Portage County, Summit County.

Albany-Schenectady-Troy, NY Metropolitan Statistical Area

Principal Cities: Albany, Schenectady, Troy.

Albany County, Rensselaer County, Saratoga County, Schenectady County, Schoharie County.

Allentown-Bethlehem-Easton, PA-NJ Metropolitan Statistical Area

Principal Cities: Allentown, PA; Bethlehem, PA.

Warren County, NJ; Carbon County, PA; Lehigh County, PA; Northampton County, PA.

Altoona, PA Metropolitan Statistical Area

Principal City: Altoona.

Blair County.

Ann Arbor, MI Metropolitan Statistical Area

Principal City: Ann Arbor.

Washtenaw County.

Asheville, NC Metropolitan Statistical Area

Principal City: Asheville.

Buncombe County, Haywood County, Henderson County, Madison County.

Atlanta-Sandy Springs-Marietta, GA Metropolitan Statistical Area

Principal Cities: Atlanta, Sandy Springs, Marietta.

Barrow County, Bartow County, Butts County, Carroll County, Cherokee County, Clayton County, Cobb County, Coweta County, Dawson County, DeKalb County, Douglas County, Fayette County, Forsyth County, Fulton County, Gwinnett County, Haralson County, Heard County, Henry County, Jasper County, Lamar County, Meriwether County, Newton County, Paulding County, Pickens County, Pike County, Rockdale County, Spalding County, Walton County, Athens-Clark County (balance).¹

¹ Athens-Clark County (balance) refers to the portion of the consolidated government of Athens city and Clark County minus the separately incorporated places of Bogart and Winterville within the consolidated city.

Atlantic City, NJ Metropolitan Statistical Area

Principal City: Atlantic City.

Atlantic County.

Austin-Round Rock, TX Metropolitan Statistical Area

Principal Cities: Austin, Round Rock.

Bastrop County, Caldwell County, Hays County, Travis County, Williamson County.

Baltimore-Towson, MD Metropolitan Statistical Area:

Principal Cities: Baltimore, Towson.

Anne Arundel County, Baltimore County, Carroll County, Harford County, Howard County, Queen Anne's County, Baltimore city.

Bangor, ME Metropolitan Statistical Area

Principal City: Bangor.

Penobscot County.

Binghamton, NY Metropolitan Statistical Area:

Principal City: Binghamton.

Broome County, Tioga County.

Birmingham-Hoover, AL Metropolitan Statistical Area

Principal Cities: Birmingham, Hoover.

Bibb County, Blount County, Chilton County, Jefferson County, St. Clair County, Shelby County, Walker County.

Boston-Cambridge-Quincy, MA-NH Metropolitan Statistical Area

Principal Cities: Boston, MA; Cambridge, MA; Quincy, MA; Newton, MA; Framingham, MA; Waltham, MA.

Boston-Quincy, MA Metropolitan Division: Norfolk County, Plymouth County, Suffolk County.

Cambridge-Newton-Framingham, MA Metropolitan Division: Middlesex County.

Essex County, MA Metropolitan Division: Essex County.

Rockingham County-Strafford County, NH Metropolitan Division: Rockingham County, Strafford County.

Bridgeport-Stamford-Norwalk, CT Metropolitan Statistical Area

Principal Cities: Bridgeport, Stamford, Norwalk, Danbury, Stratford.

Fairfield County.

Buffalo-Niagara Falls, NY Metropolitan Statistical Area

Principal Cities: Buffalo, Cheektowaga, Tonawanda, Niagara Falls.

Erie County, Niagara County.

Burlington-South Burlington, VT Metropolitan Statistical Area

Principal Cities: Burlington, South Burlington.

Chittenden County, Franklin County, Grand Isle County.

Canton-Massillon, OH Metropolitan Statistical Area

Principal Cities: Canton, Massillon.

Carroll County, Stark County.

Cedar Rapids, IA Metropolitan Statistical Area

Principal City: Cedar Rapids.

Benton County, Jones County, Linn County.

Charleston, WV Metropolitan Statistical Area

Principal City: Charleston.

Boone County, Clay County, Kanawha County, Lincoln County, Putnam County.

Charleston-North Charleston, SC Metropolitan Statistical Area

Principal Cities: Charleston, North Charleston.

Berkeley County, Charleston County, Dorchester County.

Charlotte-Gastonia-Concord, NC-SC Metropolitan Statistical Area

Principal Cities: Charlotte, NC; Gastonia, NC; Concord, NC, Rock Hill, SC.

Anson County, NC; Cabarrus County, NC; Gaston County, NC; Mecklenburg County, NC; Union County, NC; York County, SC.

Chattanooga, TN-GA Metropolitan Statistical Area

Principal City: Chattanooga, TN.

Catoosa County, GA; Dade County, GA; Walker County, GA; Hamilton County, TN; Marion County, TN; Sequatchie County, TN.

Chicago-Naperville-Joliet, IL-IN-WI Metropolitan Statistical Area

Principal Cities: Chicago, IL; Naperville, IL; Joliet, IL; Gary, IN; Elgin, IL; Arlington Heights, IL; Evanston, IL; Schaumburg, IL; Skokie, IL; Des Plaines, IL.

Chicago-Naperville-Joliet, IL Metropolitan Division: Cook County, DeKalb County, DuPage County, Grundy County, Kane County, Kendall County, McHenry County, Will County.

Gary, IN Metropolitan Division: Jasper County, Lake County, Newton County, Porter County.

Lake County-Kenosha County, IL-WI Metropolitan Division: Lake County, IL; Kenosha County, WI.

Cincinnati-Middletown, OH-KY-IN Metropolitan Statistical Area

Principal Cities: Cincinnati, OH; Middletown, OH.

Dearborn County, IN; Franklin County, IN; Ohio County, IN; Boone County, KY; Bracken County, KY; Campbell County, KY; Gallatin County, KY; Grant County, KY; Kenton County, KY; Pendleton County, KY; Brown County, OH; Butler County, OH; Clermont County, OH; Hamilton County, OH; Warren County, OH.

Cleveland-Elyria-Mentor, OH Metropolitan Statistical Area

Principal Cities: Cleveland, Elyria, Mentor.

Cuyahoga County, Geauga County, Lake County, Lorain County, Medina County

Colorado Springs, CO Metropolitan Statistical Area

El Paso County, Teller County.

Columbus, OH Metropolitan Statistical Area

Principal City: Columbus.

Delaware County, Fairfield County, Franklin County, Licking County, Madison County, Morrow County, Pickaway County, Union County.

Dallas-Fort Worth-Arlington, TX Metropolitan Statistical Area

Principal Cities: Dallas, Fort Worth, Arlington, Plano, Irving, Carrollton, Richardson, Denton, McKinney.

Dallas-Plano-Irving, TX Metropolitan Division

Collin County, Dallas County, Delta County, Denton County, Ellis County, Hunt County, Kaufman County, Rockwall County.

Fort Worth-Arlington, TX Metropolitan Division

Johnson County, Parker County, Tarrant County, Wise County.

Davenport-Moline-Rock Island, IA-IL Metropolitan Statistical Area

Principal Cities: Davenport, IA; Moline, IL; Rock Island, IL.

Henry County, IL; Mercer County, IL; Rock Island County, IL; Scott County, IA.

Dayton, OH Metropolitan Statistical Area

Principal City: Dayton.

Greene County, Miami County, Montgomery County, Preble County.

Denver-Aurora, CO Metropolitan Statistical Area

Principal Cities: Denver, Aurora.

Adams County, Arapahoe County, Broomfield County, Clear Creek County, Denver County, Douglas County, Elbert County, Gilpin County, Jefferson County, Park County.

Des Moines-West Des Moines, IA Metropolitan Statistical Area

Principal City: Des Moines, West Des Moines.

Dallas County, Guthrie County, Madison County, Polk County, Warren County.

Detroit-Warren-Livonia, MI Metropolitan Statistical Area

Principal Cities: Detroit, Warren, Livonia, Dearborn, Troy, Farmington Hills, Southfield, Pontiac, Taylor, Novi.

Detroit-Livonia-Dearborn, MI Metropolitan Division: Wayne County.

Warren-Troy-Farmington Hills, MI Metropolitan Division: Lapeer County, Livingston County, Macomb County, Oakland County, St. Clair County.

District of Columbia

Dover, DE Metropolitan Statistical Area

Principal City: Dover.

Kent County.

Duluth, MN-WI Metropolitan Statistical Area

Principal City: Duluth, MN.

Carlton County, MN; St. Louis County, MN; Douglas County, WI.

Elmira, NY Metropolitan Statistical Area

Principal City: Elmira.

Chemung County.

El Paso, TX Metropolitan Statistical Area

Principal City: El Paso.

El Paso County.

Erie, PA Metropolitan Statistical Area

Principal City: Erie.

Erie County.

Evansville, IN-KY Metropolitan Statistical Area

Principal City: Evansville, IN.

Gibson County, IN; Posey County, IN; Vanderburgh County, IN; Warrick County, IN; Henderson County, KY; Webster County, KY.

Flint, MI Metropolitan Statistical Area

Principal City: Flint.

Genesee County.

Fort Wayne, IN Metropolitan Statistical Area

Principal City: Fort Wayne.

Allen County, Wells County, Whitley County.

Fresno, CA Metropolitan Statistical Area

Principal City: Fresno.

Fresno County.

Grand Rapids-Wyoming, MI Metropolitan Statistical Area

Principal Cities: Grand Rapids, Wyoming.

Barry County, Ionia County, Kent County, Newaygo County.

Hagerstown-Martinsburg, MD-WV Metropolitan Statistical Area

Principal Cities: Hagerstown, MD; Martinsburg, WV.

Washington County, MD; Berkeley County, WV; Morgan County, WV.

Harrisburg-Carlisle, PA Metropolitan Statistical Area

Principal Cities: Harrisburg, Carlisle.

Cumberland County, Dauphin County, Perry County.

Hartford-West Hartford-East Hartford, CT Metropolitan Statistical Area

Principal Cities: Hartford, West Hartford, East Hartford, Middletown.

Hartford County, Middlesex County, Tolland County.

Honolulu, HI Metropolitan Statistical Area

Principal City: Honolulu.

Honolulu County.

Houston-Sugar Land-Baytown, TX Metropolitan Statistical Area

Principal Cities: Houston, Sugar Land, Baytown, Galveston.

Austin County, Brazoria County, Chambers County, Fort Bend County, Galveston County, Harris County, Liberty County, Montgomery County, San Jacinto County, Waller County.

Indianapolis-Carmel, IN Metropolitan Statistical Area

Principal City: Indianapolis city (balance) ², Carmel.

² Indianapolis City (balance) refers to the portion of the consolidated government of Indianapolis city and Marion County minus the separately incorporated places of Clermont, Crows Nest, Cumberland, Homecroft, Meridian Hills, North Crows Nest, Rocky Ripple, Spring Hill, Warren Park, Williams Creek, and Wynnedale within the consolidated city. It excludes the cities of Beech Grove, Lawrence, Southport, and Speedway which are within Marion County, but are not part of the consolidated city.

Boone County, Brown County, Hamilton County, Hancock County, Hendricks County, Johnson County, Marion County, Morgan County, Putnam County, Shelby County.

Jacksonville, FL Metropolitan Statistical Area

Principal City: Jacksonville.

Baker County, Clay County, Duval County, Nassau County, St. Johns County.

Jamestown-Dunkirk-Fredonia, NY Micropolitan Statistical Area

Principal Cities: Jamestown, Dunkirk, Fredonia.

Chautauqua County.

Johnstown, PA Metropolitan Statistical Area

Principal City: Johnstown.

Cambria County.

Kalamazoo-Portage, MI Metropolitan Statistical Area

Principal Cities: Kalamazoo, Portage.

Kalamazoo County, Van Buren County.

Kansas City, MO-KS Metropolitan Statistical Area

Principal Cities: Kansas City, MO, Overland Park, KS, Kansas City, KS.

Franklin County, KS; Johnson County, KS; Leavenworth County, KS; Linn County, KS; Miami County, KS; Wyandotte County, KS; Bates County, MO; Caldwell County, MO; Cass County, MO; Clay County, MO; Clinton County, MO; Jackson County, MO; Lafayette County, MO; Platte County, MO; Ray County, MO.

Knoxville, TN Metropolitan Statistical Area

Principal City: Knoxville.

Anderson County, Blount County, Knox County, Loudon County, Union County.

Lancaster, PA Metropolitan Statistical Area

Principal City: Lancaster.

Lancaster County.

Lansing-East Lansing, MI Metropolitan Statistical Area

Principal Cities: Lansing, East Lansing.

Clinton County, Eaton County, Ingham County.

Lewiston-Auburn, ME Metropolitan Statistical Area

Principal Cities: Lewiston, Auburn.

Androscoggin County.

Lexington-Fayette, KY Metropolitan Statistical Area

Principal City: Lexington-Fayette.

Bourbon County, Clark County, Fayette County, Jessamine County, Scott County, Woodford County.

Lincoln, NE Metropolitan Statistical Area

Principal City: Lincoln.

Lancaster County, Seward County.

Los Angeles-Long Beach-Santa Ana, CA Metropolitan Statistical Area

Principal Cities: Los Angeles, Long Beach, Santa Ana, Anaheim, Glendale, Irvine, Pomona, Torrance, Pasadena, Orange, Fullerton, Costa Mesa, Burbank, Compton, Carson, Santa Monica, Newport Beach, Tustin, Montebello, Monterey Park, Gardena, Paramount, Fountain Valley, Arcadia, Cerritos.

Los Angeles-Long Beach-Glendale, CA Metropolitan Division: Los Angeles County.

Santa Ana-Anaheim-Irvine, CA Metropolitan Division: Orange County.

Louisville-Jefferson County, KY-IN Metropolitan Statistical Area

Principal City: Louisville-Jefferson County, KY.

Clark County, IN; Floyd County, IN; Harrison County, IN; Washington County, IN; Bullitt County, KY; Henry County, KY; Jefferson County, KY; Meade County, KY; Nelson County, KY; Oldham County, KY; Shelby County, KY; Spencer County, KY; Trimble County, KY.

Madison, WI Metropolitan Statistical Area

Principal City: Madison.

Columbia County, Dane County, Iowa County.

Manchester-Nashua, NH Metropolitan Statistical Area

Principal Cities: Manchester, Nashua.

Hillsborough County.

Memphis, TN-MS-AR Metropolitan Statistical Area

Principal City: Memphis, TN.

Crittenden County, AR; DeSoto County, MS; Marshall County, MS; Tate County, MS; Tunica County, MS; Fayette County, TN; Shelby County, TN; Tipton County, TN.

Miami-Fort Lauderdale-Miami Beach, FL Metropolitan Statistical Area

Principal Cities: Miami, Fort Lauderdale, Miami Beach, West Palm Beach, Pompano Beach, Kendall, Boca Raton, Deerfield Beach, Boynton Beach, Delray Beach.

Fort Lauderdale-Pompano Beach-Deerfield Beach, FL Metropolitan Division: Broward County.

Miami-Miami Beach-Kendall, FL Metropolitan Division: Miami-Dade County.

West Palm Beach-Boca Raton-Boynton Beach, FL Metropolitan Division: Palm Beach County.

Milwaukee-Waukesha-West Allis, WI Metropolitan Statistical Area

Principal Cities: Milwaukee, Waukesha, West Allis.

Milwaukee County, Ozaukee County, Washington County, Waukesha County.

Minneapolis-St. Paul-Bloomington, MN-WI Metropolitan Statistical Area

Principal Cities: Minneapolis, MN; St. Paul, MN; Bloomington, MN; Plymouth, MN; Eagan, MN; Eden Prairie, MN; Minnetonka, MN.

Anoka County, MN; Carver County, MN; Chisago County, MN; Dakota County, MN; Hennepin County, MN; Isanti County, MN; Ramsey County, MN; Scott County, MN; Sherburne County, MN; Washington County, MN; Wright County, MN; Pierce County, WI; St. Croix County, WI.

Nashville-Davidson'Murfreesboro, TN Metropolitan Statistical Area

Principal Cities: Nashville-Davidson (balance),³ Murfreesboro.

³ Nashville-Davidson (balance) refers to the portion of the consolidated government of Nashville city and Davidson County minus the separately incorporated places of Belle Meade, Berry Hill, Forest Hills, Goodlettesville, Lakewood, Oak Hill, and Ridgetop within the consolidated city.

Cannon County, Cheatham County, Davidson County, Dickson County, Hickman County, Macon County, Robertson County, Rutherford County, Smith County, Sumner County, Trousdale County, Williamson County, Wilson County.

New Haven-Milford, CT Metropolitan Statistical Area

Principal Cities: New Haven, Milford city (balance).⁴

⁴ Milford city (balance) refers to the portion of the consolidated government of Milford city and Milford town minus the separately incorporated place of Woodmont within the consolidated city.

New Haven County.

New Orleans-Metairie-Kenner, LA Metropolitan Statistical Area

Principal Cities: New Orleans, Metairie, Kenner.

Jefferson Parish, Orleans Parish, Plaquemines Parish, St. Bernard Parish, St. Charles Parish, St. John the Baptist Parish, St. Tammany Parish.

New York-Northern New Jersey-Long Island, NY-NJ-PA Metropolitan Statistical Area

Principal Cities: New York, NY; Newark, NJ; Edison, NJ; White Plains, NY; Union, NJ; Wayne, NJ.

Edison, NJ Metropolitan Division: Middlesex County, Monmouth County, Ocean County, Somerset County.

Nassau-Suffolk, NY Metropolitan Division: Nassau County, Suffolk County.

Newark-Union, NJ-PA Metropolitan Division: Essex County, NJ; Hunterdon County, NJ; Morris County, NJ; Sussex County, NJ; Union County, NJ; Pike County, PA.

New York-White Plains-Wayne, NY-NJ Metropolitan Division: Bergen County, NJ; Hudson County, NJ; Passaic County, NJ; Bronx County, NY; Kings County, NY; New York County, NY; Putnam County, NY; Queens County, NY; Richmond County, NY; Rockland County, NY; Westchester County, NY.

Norwich-New London, CT Metropolitan Statistical Area

Principal Cities: Norwich, New London.

New London County.

Oklahoma City, OK Metropolitan Statistical Area

Principal City: Oklahoma City.

Canadian County, Cleveland County, Grady County, Lincoln County, Logan County, McClain County, Oklahoma County.

Omaha-Council Bluffs, NE-IA Metropolitan Statistical Area

Principal Cities: Omaha, NE; Council Bluffs, IA.

Harrison County, IA; Mills County, IA; Pottawattamie County, IA; Cass County, NE; Douglas County, NE; Sarpy County, NE; Saunders County, NE; Washington County, NE.

Peoria, IL Metropolitan Statistical Area

Principal City: Peoria.

Marshall County, Peoria County, Stark County, Tazewell County, Woodford County.

Philadelphia-Camden-Wilmington, PA-NJ-DE-MD Metropolitan Statistical Area

Principal Cities: Philadelphia, PA; Camden, NJ; Wilmington, DE.

Camden, NJ Metropolitan Division: Burlington County, Camden County, Gloucester County.

Philadelphia, PA Metropolitan Division: Bucks County, Chester County, Delaware County, Montgomery County, Philadelphia County.

Wilmington, DE-MD-NJ Metropolitan Division: New Castle County, DE; Cecil County, MD; Salem County, NJ.

Phoenix-Mesa-Scottsdale, AZ Metropolitan Statistical Area

Principal Cities: Phoenix, Mesa, Scottsdale, Tempe.

Maricopa County, Pinal County.

Pittsburgh, PA Metropolitan Statistical Area:

Principal City: Pittsburgh.

Allegheny County, Armstrong County, Beaver County, Butler County, Fayette County, Washington County, Westmoreland County.

Pittsfield, MA Metropolitan Statistical Area

Principal City: Pittsfield.

Berkshire County.

Portland-South Portland-Biddeford, ME Metropolitan Statistical Area

Principal Cities: Portland, South Portland, Biddeford.

Cumberland County, Sagadahoc County, York County.

Portland-Vancouver-Beaverton, OR-WA Metropolitan Statistical Area

Principal Cities: Portland, OR; Vancouver, WA; Beaverton, OR; Hillsboro, OR.

Clackamas County, OR; Columbia County, OR; Multnomah County, OR; Washington County, OR; Yamhill County, OR; Clark County, WA; Skamania County, WA.

Poughkeepsie-Newburgh-Middletown, NY Metropolitan Statistical Area

Principal Cities: Poughkeepsie, Newburgh, Middletown, Arlington.

Dutchess County, Orange County.

Providence-New Bedford-Fall River, RI-MA Metropolitan Statistical Area

Principal Cities: Providence, RI; New Bedford, MA; Fall River, MA; Warwick, RI; Cranston, RI.

Bristol County, MA; Bristol County, RI; Kent County, RI; Newport County, RI; Providence County, RI; Washington County, RI.

Racine, WI Metropolitan Statistical Area

Principal City: Racine.

Racine County.

Reading, PA Metropolitan Statistical Area

Principal City: Reading.

Berks County.

Richmond, VA Metropolitan Statistical Area

Principal City: Richmond.

Amelia County, Caroline County, Charles City County, Chesterfield County, Cumberland County, Dinwiddie County, Goochland County, Hanover County, Henrico County, King and Queen County, King William County, Louisa County, New Kent County, Powhatan County, Prince George County, Sussex County, Colonial Heights city, Hopewell city, Petersburg city, Richmond city.

Riverside-San Bernardino-Ontario, CA Metropolitan Statistical Area

Principal Cities: Riverside, San Bernardino, Ontario, Temecula, Victorville, Chino, Redlands, Hemet, Colton.

Riverside County, San Bernardino County.

Rochester, NY Metropolitan Statistical Area

Principal City: Rochester.

Livingston County, Monroe County, Ontario County, Orleans County, Wayne County.

Rockford, IL Metropolitan Statistical Area

Principal City: Rockford.

Boone County, Winnebago County.

Sacramento'Arden-Arcade'Roseville, CA Metropolitan Statistical Area

Principal Cities: Sacramento, Arden-Arcade, Roseville, Folsom, Rancho Cordova, Woodland.

El Dorado County, Placer County, Sacramento County, Yolo County.

St. Louis, MO-IL Metropolitan Statistical Area

Principal Cities: St. Louis, MO; St. Charles, MO.

Bond County, IL; Calhoun County, IL; Clinton County, IL; Jersey County, IL; Macoupin County, IL; Madison County, IL; Monroe County, IL; St. Clair County, IL; Crawford County, MO (part'Sullivan city) Franklin County, MO; Jefferson County, MO; Lincoln County, MO; St. Charles County, MO; St. Louis County, MO; Warren County, MO; Washington County, MO; St. Louis city, MO.

Salt Lake City, UT Metropolitan Statistical Area

Principal City: Salt Lake City.

Salt Lake County, Summit County, Tooele County.

San Antonio, TX Metropolitan Statistical Area

Principal City: San Antonio.

Atascosa County, Bandera County, Bexar County, Comal County, Guadalupe County, Kendall County, Medina County, Wilson County.

San Diego-Carlsbad-San Marcos, CA Metropolitan Statistical Area

Principal Cities: San Diego, Carlsbad, San Marcos, National City.

San Diego County.

San Francisco-Oakland-Fremont, CA Metropolitan Statistical Area

Principal Cities: San Francisco, Oakland, Fremont, Hayward, Berkeley, San Mateo, San Leandro, Redwood City, Pleasanton, Walnut Creek, South San Francisco, San Rafael.

Oakland-Fremont-Hayward, CA Metropolitan Division: Alameda County, Contra Costa County.

San Francisco-San Mateo-Redwood City, CA Metropolitan Division: Marin County, San Francisco County, San Mateo County.

San Jose-Sunnyvale-Santa Clara, CA Metropolitan Statistical Area

Principal Cities: San Jose, Sunnyvale, Santa Clara, Mountain View, Milpitas, Palo Alto, Cupertino.

San Benito County, Santa Clara County.

San Juan-Caguas-Guaynabo, PR Metropolitan Statistical Area

Principal Cities: San Juan, Caguas, Guaynabo.

Aguas Buenas Municipio, Aibonito Municipio, Arecibo Municipio, Barceloneta Municipio, Barranquitas Municipio, Bayamón Municipio, Caguas Municipio, Camuy Municipio, Canóvanas Municipio, Carolina Municipio, Cataño Municipio, Cayey Municipio, Ciales Municipio, Cidra Municipio, Comerío Municipio, Corozal Municipio, Dorado Municipio, Florida Municipio, Guaynabo Municipio, Gurabo Municipio, Hatillo Municipio, Humacao Municipio, Juncos Municipio, Las Piedras Municipio, Loíza Municipio, Manaí Municipio, Maunabo Municipio, Morovis Municipio, Naguabo Municipio, Naranjito Municipio, Orocovis Municipio, Quebradillas Municipio, Río Grande Municipio, San Juan Municipio, San Lorenzo Municipio, Toa Alta Municipio, Toa Baja Municipio, Trujillo Alto Municipio, Vega Alta Municipio, Vega Baja Municipio, Yabucoa Municipio.

Santa Barbara-Santa Maria, CA Metropolitan Statistical Area

Principal Cities: Santa Barbara, Santa Maria.

Santa Barbara County.

Santa Cruz-Watsonville, CA Metropolitan Statistical Area

Principal Cities: Santa Cruz, Watsonville.

Santa Cruz County.

Savannah, GA Metropolitan Statistical Area

Principal City: Savannah.

Bryan County, Chatham County, Effingham County.

Scranton-Wilkes-Barre, PA Metropolitan Statistical Area

Principal Cities: Scranton, Wilkes-Barre.

Lackawanna County, Luzerne County, Wyoming County.

Seattle-Tacoma-Bellevue, WA Metropolitan Statistical Area

Principal Cities: Seattle, Tacoma, Bellevue, Everett, Kent, Renton.

Seattle-Bellevue-Everett, WA Metropolitan Division: King County, Snohomish County.

Tacoma, WA Metropolitan Division: Pierce County.

Sioux City, IA-NE-SD Metropolitan Statistical Area

Principal City: Sioux City, IA.

Woodbury County, IA; Dakota County, NE; Dixon County, NE; Union County, SD.

South Bend-Mishawaka, IN-MI Metropolitan Statistical Area

Principal Cities: South Bend, IN; Mishawaka, IN.

St. Joseph County, IN; Cass County, MI.

Spokane, WA Metropolitan Statistical Area

Principal City: Spokane.

Spokane County.

Springfield, MA Metropolitan Statistical Area

Principal City: Springfield.

Franklin County, Hampden County, Hampshire County.

Springfield, MO Metropolitan Statistical Area

Principal City: Springfield.

Christian County, Dallas County, Greene County, Polk County, Webster County.

Springfield, OH Metropolitan Statistical Area

Principal City: Springfield.

Clark County.

Syracuse, NY Metropolitan Statistical Area:

Principal City: Syracuse.

Madison County, Onondaga County, Oswego County.

Tampa-St. Petersburg-Clearwater, FL Metropolitan Statistical Area

Principal Cities: Tampa, St. Petersburg, Clearwater, Largo.

Hernando County, Hillsborough County, Pasco County, Pinellas County.

Toledo, OH Metropolitan Statistical Area

Principal City: Toledo.

Fulton County, Lucas County, Ottawa County, Wood County.

Trenton-Ewing, NJ Metropolitan Statistical Area

Principal Cities: Trenton, Ewing.

Mercer County.

Tucson, AZ Metropolitan Statistical Area

Principal City: Tucson.

Pima County.

Tulsa, OK Metropolitan Statistical Area

Principal City: Tulsa.

Creek County, Okmulgee County, Osage County, Pawnee County, Rogers County, Tulsa County, Wagoner County.

Utica-Rome, NY Metropolitan Statistical Area

Principal Cities: Utica, Rome.

Herkimer County, Oneida County.

Virginia Beach-Norfolk-Newport News, VA-NC Metropolitan Statistical Area

Principal Cities: Virginia Beach, VA; Norfolk, VA; Newport News, VA; Hampton, VA; Portsmouth, VA.

Currituck County, NC; Gloucester County, VA; Isle of Wight County, VA; James City County, VA; Mathews County, VA; Surry County, VA; York County, VA; Chesapeake city, VA; Hampton city, VA; Newport News city, VA; Norfolk city, VA; Poquoson city, VA; Portsmouth city, VA; Suffolk city, VA; Virginia Beach city, VA; Williamsburg city, VA.

Washington-Arlington-Alexandria, DC-VA-MD-WV Metropolitan Statistical Area

Principal Cities: Washington, DC; Arlington, VA; Alexandria, VA; Reston, VA; Bethesda, MD; Gaithersburg, MD; Frederick, MD; Rockville, MD.

Bethesda-Gaithersburg-Frederick, MD Metropolitan Division: Frederick County, Montgomery County.

Washington-Arlington-Alexandria, DC-VA-MD-WV Metropolitan Division: District of Columbia, DC; Calvert County, MD; Charles County, MD; Prince George's County, MD; Arlington County, VA; Clarke County, VA; Fairfax County, VA; Fauquier County, VA; Loudoun County, VA; Prince William County, VA; Spotsylvania County, VA; Stafford County, VA; Warren County, VA; Alexandria city, VA; Fairfax city, VA; Falls Church city, VA; Fredericksburg city, VA; Manassas city, VA; Manassas Park city, VA; Jefferson County, WV.

Wichita, KS Metropolitan Statistical Area

Principal City: Wichita.

Butler County, Harvey County, Sedgwick County, Sumner County.

Williamsport, PA Metropolitan Statistical Area

Principal City: Williamsport.

Lycoming County.

Worcester, MA Metropolitan Statistical Area

Principal City: Worcester.

Worcester County.

York-Hanover, PA Metropolitan Statistical Area

Principal Cities: York, Hanover.

York County.

Youngstown-Warren-Boardman, OH-PA Metropolitan Statistical Area

Principal Cities: Youngstown, OH; Warren, OH; Boardman, OH.

Mahoning County, OH; Trumbull County, OH; Mercer County, PA.

FY 2006 Lead Hazard Reduction Demonstration Reopening NOFA

Appendix B—Comments on Selected Issues

Most important issue: Read the NOFA and re-read it as necessary to ensure that you have fully responded to each element listed.

A. Match

A1. Some applicants did not document the funding match requirement and other contributions or leveraged funds.

Applicants must provide the source for all required match funds and other contributions or leveraged funds in a letter of commitment, in order for these to be considered. (The only exception is if the applicant itself is providing the match or leveraging, in which case the applicant's electronic signature on the SF-424, Application for Federal Assistance, is sufficient.) Community Development Block Grant (CDBG) funds, or other federal programs that allow their funds to be considered local funds, are the only federal sources that can be used for the match requirement.

A2. Some applicants provided inadequate letters of commitment.

Some applicants did not specify the dollar amount of the contribution, describe how the activity would be incorporated into the proposed work plan, indicate whether the contribution would be used within the period of performance of the proposed grant, or have the organization's authorized person sign the letter of commitment.

B. Eligibility

B1. Some unsuccessful applicants were ineligible based on their having received an award under another NOFA.

You are ineligible to apply under this reopened competition if you received an award under any of the following grant NOFAs:

• FY 2005 Lead Hazard Reduction Demonstration Grant Program.

• FY 2005 Operation Lead Elimination Action Program.

• FY 2005 Lead-Based Paint Hazard Control Grant Program.

• FY 2006 Lead Hazard Reduction Demonstration Grant Program.

Unsuccessful applicants for a previous NOFA may apply for this NOFA if they submit a new and revised application. Applicants must download a new application from Grants.gov and submit a new application in its entirety. HUD will not accept a partial or amended application submission. Grants.gov will reject old applications. HUD encourages each applicant to examine its earlier application and these comments to identify areas for improvement.

B2. Some applicants for the Lead Hazard Reduction Demonstration Program did not have the minimum of 3,500 pre-1940 occupied rental-housing units to be eligible to apply.

Appendix A of this reopened LHRD NOFA lists the cities, counties, States and Native American Tribes that are eligible to apply. It also lists all the cities and counties in each metropolitan area that have 3,500 or more occupied pre-1940 rental units. Listed cities and counties may combine their application with other cities or counties within the same metropolitan area, but only an eligible city or county with 3,500 or more units can be the applicant submitting the application through Grants.gov. States that apply on behalf of one or more eligible cities or counties may also include additional cities or counties listed in Appendix A as sub-applicants.

B3. A State government or Native American Tribal government must have an EPA-authorized Lead-Based Paint Training and Certification Program.

The list of EPA-authorized State and Native American Tribal governments is found at http://www.epa.gov/lead/pubs/traincert.htm.

B4. More than one agency from the same jurisdiction applies separately.

HUD will review only one application from each jurisdiction. If HUD receives more than one application for the same jurisdiction, we will contact chief executive officer for the jurisdiction (e.g., the mayor, county executive, etc.) to determine which application is to be considered. If the executive does not select an applicant, HUD will not review any of the applications from the jurisdiction.

B5. A city and the county in which it is located submit separate applications for work in the same jurisdiction.

A jurisdiction where lead hazard control work will be done can appear in only one application. If the jurisdiction appears in more than one application, none of the applications in which the jurisdiction appears will be reviewed. For example, HUD will review the applications from a county and a city that is totally within the county's borders if the county's target area for doing lead hazard control work is outside the city limits, and the city's target area is within the city limits.

C. Application Technical Quality

C1. Some applicants submitted a narrative response that exceeded the 20-page narrative response limit.

The 20-page limit is a prerequisite to the application being valid and being rated by HUD fairly in comparison to other valid applications. Excess pages will not be reviewed, and applicants will not receive any points for material on the excess pages or referred to by those pages. The application will be less competitive, and the applicant will be less likely to be awarded a grant.

The narrative responses to the Rating Factors should be submitted as a single Microsoft Word™ document file that does not exceed 20 pages. Resumes, organizational charts, and letters of commitment in support of the match and other contributions are exempt from the 20-page limit. Other materials in support of the Rating Factors are subject to a separate 20-page limit.

C2. Some applicants did not label attachments in support of their narrative responses.

Materials provided in the attachments should directly apply to the specific Rating Factor narrative response and be paginated and labeled to reflect this. All attachments must identify the related factor in the footer by providing the Rating Factor number and the page number (e.g., Factor 1 Attachment, page 1), and should be submitted as a single compressed (zipped) file attachment to the electronic application.

C3. Some applicants did not provide a signature on forms that required one.

Forms HUD-2880, HUD-2990 (if applicable), HUD-2991 and other certifications must be signed and dated, and submitted electronically (e.g., scanned) or faxed using form HUD-96011.

D. Application Substantive Quality

D1. Some applicants proposed to conduct lead hazard control in ineligible HUD-assisted housing.

Lead hazard control grant funds may not be used in residential properties that receive project-based rental assistance, are federally owned, or are public housing. Projects under certain HUD programs, however, may also use lead hazard control funding. These programs include:

a. Community Planning & Development Programs—Housing Components:

• Community Development Block Grants (Entitlement).

• Community Development Block Grants (Non-Entitlement) for States and small cities.

• Community Development Block Grants (Section 108 Loan Guarantee).

• Special Purpose Grants.

• The Home Program: HOME Investment Partnerships.

• HOPE for Homeownership of Single Family Homes.

• Shelter Plus Care—Tenant-based Rental Assistance.

• Emergency Shelter Grants.

• Housing Opportunities for Persons With AIDS (HOPWA).

• Supportive Housing Demonstration Program Transitional Housing Component.

• Supportive Housing Demonstration Program Permanent Housing Component.

• Supplemental Assistance for Facilities to Assist the Homeless (SAFAH).

• Supportive Housing Program.

• Innovative Demonstration Program.

b. Office of Housing—Single Family Programs:

• One- to Four-Family Home Mortgage Insurance (Section 203(b) and (i)).

• Rehabilitation Mortgage Insurance (Section 203(k)).

• Homes for Service Member (Section 222).

• Housing in Declining Neighborhoods (Section 223(e)).

• Condominium Housing (Section 234).

• Housing in Military Impacted Areas (Section 238).

• Single Family Home Mortgage Coinsurance (Section 244).

• Graduated Payment Mortgages (Section 245).

• Adjustable Rate Mortgages (ARMs) (Section 251).

• Manufactured Homes (Title I).

c. Office of Housing—Multifamily Programs:

• Multifamily Rental Housing (Section 207).

• Cooperative Housing (Section 213).

• Mortgage and Major Home Improvement Loan Insurance for Urban Renewal Areas (Section 220).

• Multifamily Rental Housing for Moderate-Income Families—Section 221(d)(4).

• Existing Multifamily Rental Housing (Section 223(f)).

• Supplemental Loans for Multifamily Projects (Section 241).

d. Public and Indian Housing Programs:

• Section 8 Housing Choice Voucher Program (Tenant-Based Rental Assistance).

D2. Some applicants do not understand that the term “Section 8” covers housing that is eligible for assistance under the lead hazard control programs, and housing that is not eligible.

Section 8 of the National Housing Act includes both project-based rental assistance and tenant-based rental assistance. Tenant-based rental assistance:

• Means a program that provides vouchers (or public subsidies) to income-qualified tenants to use towards rent in private rental housing.

• Is referred to as the “Housing Choice Voucher Program”.

• Is administered by public housing authorities or State or local housing agencies.

• Is overseen by HUD's Office of Public and Indian Housing.

Project-based rental assistance:

• Means a program that provides subsidies to property owners to provide affordable rental housing for income-qualified tenants.

• Is administered by HUD's Office of Housing—Multifamily Programs. As referenced in item D1 above, the limitation for lead hazard control grant assistance applies only to properties receiving project-based rental assistance.

D3. Some applicants proposed to conduct lead hazard control along with general rehabilitation, but did not clearly define the lead hazard control portion of the project.

Lead hazard control activities must be distinguished from general rehabilitation activities. Both should be clearly described in Rating Factor 3, “Soundness of Approach,” and the budget narrative. Lead Hazard Control Demonstration grant funds may be used for lead hazard control work done in conjunction with other housing rehabilitation programs, to the extent practicable. HUD encourages integration of this grant program with housing rehabilitation, maintenance, weatherization, and other energy conservation activities. Applicants conducting lead hazard control work along with rehabilitation, weatherization, and other work other than lead hazard control should explain the coordination of these activities, including the management organization and process to ensure the cost-effectiveness of intended lead hazard control methods, the process for developing the work specifications, the lead hazard control contractor bid and selection process, the number of units anticipated to be blended from these other programs and resources, and the delineation of funds.

D4. Some current and past grantees assumed HUD reviewers would be familiar with their program, and did not fully respond to the Rating Factors.

Each applicant should fully respond to each Rating Factor and sub-factor identified in the NOFA in order to receive the maximum number of points. Be sure that all responses are clear, precise, and organized by the appropriate Rating Factor. Applicants should not presume that the previous NOFA under which they were awarded is the same as the current NOFA.

[FR Doc. 06-7708 Filed 9-12-06; 3:09 pm]

BILLING CODE 4210-67-P